DEPARTMENT OF ENERGY

Federal Energy Regulatory Commission

Combined Notice of Filings #1

Take notice that the Commission received the following electric corporate filings:

Docket Numbers: EC11-119-003.

Applicants: Gabelli, Mario J., GGCP, Inc., GGCP Holdings, LLC, GAMCO Investors, Inc., Associated Capital Group, Inc.

Description: Request for Reauthorization and Extension of Blanket Authorizations Under Section 203 of the Federal Power Act and Request for Expedited Consideration of Mario J. Gabelli, et al.

Filed Date: 1/13/21.

Accession Number: 20210113-5165.

Comments Due: 5 p.m. ET 2/3/21.

Docket Numbers: EC21-43-000.

Applicants: Indiana Crossroads Wind Farm LLC, Indiana Crossroads Wind Generation LLC.

Description: Joint Application for Authorization Under Section 203 of the Federal Power Act of Indiana Crossroads Wind Farm LLC, et al.

Filed Date: 1/13/21.

Accession Number: 20210113-5140.

Comments Due: 5 p.m. ET 2/3/21.

Docket Numbers: EC21-44-000.

Applicants: Wheelabrator Shasta Energy Company Inc.

Description: Application for Authorization Under Section 203 of the Federal Power Act of Wheelabrator Shasta Energy Company Inc.

Filed Date: 1/13/21.

Accession Number: 20210113-5168.

Comments Due: 5 p.m. ET 2/3/21.

Take notice that the Commission received the following exempt wholesale generator filings:

Docket Numbers: EG21-70-000.

Applicants: Western Trail Wind, LLC.

Description: Notice of Self-Certification of Exempt Wholesale Generator Status of Western Trail Wind, LLC.

Filed Date: 1/13/21.

Accession Number: 20210113-5155.

Comments Due: 5 p.m. ET 2/3/21.

Docket Numbers: EG21-71-000.

Applicants: Helena Wind, LLC.

Description: Notice of Self-Certification of Exempt Wholesale Generator Status of Helena Wind, LLC.

Filed Date: 1/13/21.

Accession Number: 20210113-5156.

Comments Due: 5 p.m. ET 2/3/21.

Docket Numbers: EG21-72-000.

Applicants: Sparta Solar, LLC.

Description: Notice of Self-Certification of Exempt Wholesale Generator Status of Sparta Solar, LLC.

Filed Date: 1/13/21.

Accession Number: 20210113-5158.

Comments Due: 5 p.m. ET 2/3/21.

Docket Numbers: EG21-73-000.

Applicants: Old 300 Solar Center, LLC.

Description: Notice of Self-Certification of Exempt Wholesale Generator Status of Old 300 Solar Center, LLC.

Filed Date: 1/13/21.

Accession Number: 20210113-5176.

Comments Due: 5 p.m. ET 2/3/21.

Take notice that the Commission received the following electric rate filings:

Docket Numbers: ER10-1818-025; ER10-1817-022; ER10-1819-029 ER10-1820-032.

Applicants: Public Service Company of Colorado, Northern States Power Company, a Minnesota corporation, Northern States Power Company, a Wisconsin corporation, Southwestern Public Service Company.

Description: Notice of Change in Status of Public Service Company of Colorado, et al.

Filed Date: 1/13/21.

Accession Number: 20210113-5166.

Comments Due: 5 p.m. ET 2/3/21.

Docket Numbers: ER15-1429-015.

Applicants: Versant Power.

Description: Compliance filing: Joint Offer of Settlement—ER15-1429 (Corrected TOFC) to be effective N/A.

Filed Date: 1/14/21.

Accession Number: 20210114-5016.

Comments Due: 5 p.m. ET 2/4/21.

Docket Numbers: ER20-1610-002.

Applicants: Lone Tree Wind, LLC.

Description: Notice of Non-Material Change in Status of Lone Tree Wind, LLC.

Filed Date: 1/13/21.

Accession Number: 20210113-5162.

Comments Due: 5 p.m. ET 2/3/21.

Docket Numbers: ER21-293-002.

Applicants: Horizon West Transmission, LLC.

Description: Compliance filing: Horizon West Transmission, LLC December 31 Letter Order Compliance Filing to be effective 1/1/2021.

Filed Date: 1/14/21.

Accession Number: 20210114-5095.

Comments Due: 5 p.m. ET 2/4/21.

Docket Numbers: ER21-470-001.

Applicants: Southwest Power Pool, Inc.

Description: Tariff Amendment: 3675 Doniphan Electric Cooperative Assn, Inc. NITSA NOA to be effective 9/1/2020.

Filed Date: 1/14/21.

Accession Number: 20210114-5051.

Comments Due: 5 p.m. ET 2/4/21.

Docket Numbers: ER21-483-001.

Applicants: Southwest Power Pool, Inc.

Description: Tariff Amendment: 3620R1 Kansas City Board of Public Utilities NITSA NOA to be effective 9/1/2020.

Filed Date: 1/13/21.

Accession Number: 20210113-5119.

Comments Due: 5 p.m. ET 2/3/21.

Docket Numbers: ER21-880-000.

Applicants: Northern Indiana Public Service Company.

Description: § 205(d) Rate Filing: Filing of an Amended CIAC Agreement to be effective 1/5/2021.

Filed Date: 1/13/21.

Accession Number: 20210113-5133.

Comments Due: 5 p.m. ET 2/3/21.

Docket Numbers: ER21-881-000.

Applicants: Southern California Edison Company.

Description: Tariff Cancellation: Notice of Termination City of Corona IFA & DSA SA Nos. 1077-1078 to be effective 1/16/2021.

Filed Date: 1/14/21.

Accession Number: 20210114-5045.

Comments Due: 5 p.m. ET 2/4/21.

Docket Numbers: ER21-882-000.

Applicants: Outlaw Wind Project, LLC.

Description: Tariff Cancellation: Cancelling section 10 to be effective 1/15/2021.

Filed Date: 1/14/21.

Accession Number: 20210114-5063.

Comments Due: 5 p.m. ET 2/4/21.

Take notice that the Commission received the following electric securities filings:

Docket Numbers: ES21-25-000; ES21-26-000.

Applicants: Dominion Energy South Carolina, Inc., South Carolina Generating Company, Inc.

Description: Application under Section 204 of the Federal Power Act for Authorization to Issue Securities for Dominion Energy South Carolina, Inc. et al.

Filed Date: 1/14/21.

Accession Number: 20210114-5118.

Comments Due: 5 p.m. ET 2/4/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 15, 2021.
Kimberly D. Bose,
Secretary.

[FR Doc. 2021-01349 Filed 1-21-21; 8:45 am]

BILLING CODE 6717-01-P